DEPARTMENT OF COMMERCE

International Trade Administration

[A-570-941]

Certain Kitchen Appliance Shelving and Racks From the People's Republic of China: Rescission of Antidumping Duty Administrative Review; 2013-2014

AGENCY: Enforcement and Compliance, International Trade Administration, Department of Commerce.

SUMMARY: The Department of Commerce (“the Department”) is rescinding the administrative review of the antidumping duty order on kitchen appliance shelving and racks (“kitchen racks”) from the People's Republic of China (“PRC”) for the period September 1, 2013 through August 31, 2014.

DATES: Effective Date: January 30, 2015.

FOR FURTHER INFORMATION CONTACT: Katie Marksberry, AD/CVD Operations, Office IV, Enforcement and Compliance, International Trade Administration, Department of Commerce, 14th Street and Constitution Avenue NW., Washington, DC 20230; telephone: (202) 482-7906.

SUPPLEMENTARY INFORMATION:

Background

On October 30, 2014, based on a timely request for review by SSW Holding Company, Inc. and Nashville Wire Products, Inc. (collectively, “Petitioners”),¹ the Department published in the Federal Register a notice of initiation of an administrative review of the antidumping duty order on kitchen racks from the PRC covering the period September 1, 2013 through August 31, 2014.² The review covers nine companies.³ On January 14, 2015, Petitioners withdrew their request for an administrative review on all of the nine companies listed in the Initiation Notice.⁴ No other party requested a review of these companies or any other exporters of subject merchandise.

¹ See Letter from Petitioners, Re: Request for a 2013/2014 (Fifth) Administrative Review of the Antidumping Duty Order on Kitchen Appliance Shelving and Racks from the People's Republic of China, dated September 30, 2014.

² See Initiation of Antidumping and Countervailing Duty Administrative Reviews, 79 FR 64565, 64567 (October 30, 2014) (“Initiation Notice”).

³ See id.

⁴ See Letter from Petitioners, Re: Petitioners' Withdrawal of Request for Administrative Review, dated January 14, 2015.

Rescission of Review

Pursuant to 19 CFR 351.213(d)(1), the Department will rescind an administrative review, in whole or in part, if the party that requested the review withdraws its request within 90 days of the publication of the notice of initiation of the requested review. In this case, Petitioners timely withdrew their request by the 90-day deadline, and no other party requested an administrative review of the antidumping duty order. As a result, pursuant to 19 CFR 351.213(d)(1), we are rescinding, in its entirety, the administrative review of kitchen racks from the PRC for the period September 1, 2013 through August 31, 2014.⁵

⁵ On November 12, 2014, Petitioners filed a request for the Department to refer to U.S. Customs and Border Protection (“CBP”) information placed on the record concerning enforcement of the order. See Letter from Petitioners, Re: Comments on Customs and Border Protection Information, dated November 12, 2014. The Department intends to refer the information contained in this submission to CBP.

Assessment

The Department will instruct CBP to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: January 23, 2015.
Christian Marsh,
Deputy Assistant Secretary for Antidumping and Countervailing Duty Operations.

[FR Doc. 2015-01812 Filed 1-29-15; 8:45 am]

BILLING CODE 3510-DS-P